DEPARTMENT OF ENERGY

Federal Energy Regulatory Commission

[Docket No. ER00-2811-001]

ISO New England Inc.; Notice of Filing

June 20, 2000.

Take notice that on June 16, 2000, ISO New England Inc. (the ISO), submitted corrected rate schedule pages for certain of those included in Attachments 16, 17 and 20 to its June 12 filing in this proceeding.

Copies of these materials were sent to the Secretary of the NEPOOL Participants Committee, the NEPOOL Participants, non-Participant transmission customers and the six New England state governors and regulatory commission.

Any person desiring to be heard or to protest such filing should file a motion to intervene or protest with the Federal Energy Regulatory Commission, 888 First Street, NE., Washington, DC 20426, in accordance with Rules 211 and 214 of the Commission's Rules of Practice and Procedure (18 CFR 385.211 and 385.214). All such motions and protests should be filed on or before June 26, 2000. Protests will be considered by the Commission to determine the appropriate action to be taken, but will not serve to make protestants parties to the proceedings. Any person wishing to become a party must file a motion to intervene. Copies of this filing are on file with the Commission and are available for public inspection. This filing may also be viewed on the Internet at http://www.ferc.fed.us/online/rims.htm (call 202-208-2222 for assistance).

David P. Boergers,
Secretary.

[FR Doc. 00-16014 Filed 6-23-00; 8:45 am]

BILLING CODE 6717-01-M